DEPARTMENT OF COMMERCE

International Trade Administration

[A-570-803]

Heavy Forged Hand Tools, Finished or Unfinished, With or Without Handles, from the People's Republic of China: Extension of Time Limit for the Final Results of the 14th Antidumping Duty Administrative Review

AGENCY: Import Administration, International Trade Administration, Department of Commerce.

EFFECTIVE DATE: August 2, 2006.

FOR FURTHER INFORMATION CONTACT: Nicole Bankhead, AD/CVD Operations, Office 9, Import Administration, International Trade Administration, U.S. Department of Commerce, 14th Street and Constitution Avenue, NW, Washington DC 20230; telephone: (202) 482-9068.

SUPPLEMENTARY INFORMATION:

Background

On March 8, 2006, the Department of Commerce (“the Department”) published the preliminary results of the administrative review of the antidumping duty order on Heavy Forged Hand Tools, Finished or Unfinished, With or Without Handles, from the People's Republic of China, covering the period February 1, 2004, through January 31, 2005. See Heavy Forged Hand Tools, Finished or Unfinished, With or Without Handles, From the People's Republic of China: Preliminary Results of Administrative Reviews and Preliminary Partial Rescission of Antidumping Duty Administrative Reviews, 71 FR 11580 (March 8, 2006).

Extension of Time Limit for Final Results

Pursuant to section 751(a)(3)(A) of the Tariff Act of 1930, as amended (“the Act”), and section 351.213(h)(1) of the Department's regulations, the Department shall issue the preliminary results of an administrative review within 245 days after the last day of the anniversary month of the date of publication of the antidumping duty order. The Act further provides that the Department shall issue the final results of a review within 120 days after the date on which the notice of the preliminary results was published in the Federal Register. However, if the Department determines that it is not practicable to complete the review within this time period, section 751(a)(3)(A) of the Act and section 351.213(h)(2) of the Department's regulations allow the Department to extend the 245-day period to 365 days and the 120-day period to 180 days.

On June 9, 2006, the Department extended the deadline for issuing the final results by 25 days, from July 6, 2006, to July 31, 2006. See Heavy Forged Hand Tools, Finished or Unfinished, With or Without Handles, from the People's Republic of China: Extension of Time Limit for the Final Results of the 14th Antidumping Duty Administrative Review, 71 FR 33438 (June 9, 2006). The Department determines that the completion of the final results of this review by the original extended deadline is not practicable. As noted in the first extension notice, the Department requires additional time to analyze comments regarding the four companies involved in the instant review, each of which exported subject merchandise in at least one of the four classes or kinds of merchandise covered by this order, along with complex affiliation and agent sale issues. Therefore, in accordance with section 751(a)(3)(A) of the Act, the Department is extending the time period for issuing the final results of this review by 35 days. Since a 35-day extension would result in the deadline for the final results falling on September 4, 2006, which is a federal holiday, the new deadline for the final results will be the next business day, September 5, 2006. See Notice of Clarification: Application of “Next Business Day” Rule for Administrative Determination Deadlines Pursuant to the Tariff Act of 1930, As Amended, 70 FR 24533 (May 10, 2005).

This notice is issued and published in accordance with section 751(a)(3)(A) of the Act.

Dated: July 26, 2006.
Stephen J. Claeys,
Deputy Assistant Secretary for Import Administration.

[FR Doc. E6-12470 Filed 8-1-06; 8:45 am]

BILLING CODE 3510-DS-S